DEPARTMENT OF LABOR

Employment and Training Administration

[TA-W-50,983]

Advanced Machining, Inc., Newberg, Oregon; Notice of Termination of Investigation

Pursuant to section 221 of the Trade Act of 1974, as amended, an investigation was initiated on February 26, 2003, in response to a worker petition which was filed by a company official on behalf of workers at Advanced Machining, Inc., Newberg, Oregon.

The petitioner has requested that the petition be withdrawn. Consequently, the investigation has been terminated.

Signed in Washington, DC, this 8th day of May, 2003.
Richard Church,
Certifying Officer, Division of Trade Adjustment Assistance.

[FR Doc. 03-12559 Filed 5-19-03; 8:45 am]

BILLING CODE 4510-30-P